DEPARTMENT OF THE INTERIOR

Minerals Management Service

Agency Information Collection Activities: Submitted for Office of Management and Budget (OMB) Review; Comment Request

AGENCY: Minerals Management Service (MMS), Interior.

ACTION: Notice of extension of an information collection (1010-0041).

SUMMARY: To comply with the Paperwork Reduction Act of 1995 (PRA), we are notifying the public that we have submitted to OMB an information collection request (ICR) to renew approval of the paperwork requirements in the regulations under 30 CFR 250, Subpart K, “Oil and Gas Production Rates.” This notice also provides the public a second opportunity to comment on the paperwork burden of these regulatory requirements.

DATES: Submit written comments by June 20, 2003.

ADDRESSES: You may submit comments directly to the Office of Information and Regulatory Affairs, OMB, Attention: Desk Officer for the Department of the Interior (1010-0041), 725 17th Street, NW., Washington, DC 20503. Mail or hand-carry a copy of your comments to the Department of the Interior; Minerals Management Service; Attention: Rules Processing Team; Mail Stop 4024; 381 Elden Street; Herndon, Virginia 20170-4817. If you wish to e-mail your comments to MMS, the address is: rules.comments@MMS.gov. Reference Information Collection 1010-0041 in your subject line and mark your message for return receipt. Include your name and return address in your message text.

FOR FURTHER INFORMATION CONTACT: Arlene Bajusz, Rules Processing Team, telephone (703) 787-1600. You may also contact Arlene Bajusz to obtain a copy, at no cost, of the regulations that require the subject collection of information.

SUPPLEMENTARY INFORMATION: Title: 30 CFR 250, Subpart K, Oil and Gas Production Rates.

OMB Control Number: 1010-0041.

Abstract: The Outer Continental Shelf (OCS) Lands Act, 43 U.S.C. 1331 et seq., gives the Secretary of the Interior (Secretary) the responsibility to preserve, protect, and develop oil and gas resources in the OCS, consistent with the need to make such resources available to meet the Nation's energy needs as rapidly as possible; balance orderly energy resource development with protection of the human, marine, and coastal environments; ensure the public a fair and equitable return on the resources of the OCS; and preserve and maintain free enterprise competition. Section 1334(g)(2) states “ * * * the lessee shall produce such oil or gas, or both, at rates * * * to assure the maximum rate of production which may be sustained without loss of ultimate recovery of oil or gas, or both, under sound engineering and economic principles, and which is safe for the duration of the activity covered by the approved plan.”

Regulations at 30 CFR part 250, subpart K, implement these statutory requirements. We use the information collected to determine if produced gas can be put to beneficial use economically, to analyze the risks of transporting the liquid hydrocarbons against the value of the resource, and to account for volumes of flared gas and burned liquid hydrocarbons. The MMS uses the information in its efforts to conserve natural resources, prevent waste, and protect correlative rights including the Government's royalty interest. Specifically, MMS uses the information to review records of burning liquid hydrocarbons and venting and flaring actions to ensure that they are not excessive; to determine maximum production and maximum efficient rates; to compare the volume of hydrogen sulfide (H2S) flared and the sulphur dioxide (SO2) emitted with the specified amounts in approved contingency plans; to monitor monthly atmospheric emissions of SO2 for air quality; to review applications for downhole commingling to ensure that action does not result in harm to ultimate recovery or undervalued royalties.

We will protect information from respondents considered proprietary under the Freedom of Information Act (5 U.S.C. 552) and its implementing regulations (43 CFR part 2) and under regulations at 30 CFR 250.196. No items of a sensitive nature are collected. Responses are mandatory.

Frequency: On occasion and monthly.

Estimated Number and Description of Respondents: Approximately 130 Federal OCS oil and gas lessees.

Estimated Reporting and Recordkeeping “Hour” Burden: The estimated annual “hour” burden for this information collection is a total of 15,636 hours. The following chart details the individual components and estimated hour burdens. In calculating the burdens, we assumed that respondents perform certain requirements in the normal course of their activities. We consider these to be usual and customary and took that into account in estimating the burden.

Citation 30 CFR 250 subpart K | Reporting & recordkeeping requirement | Hour burden | Average No. annual responses | Annual burden hours
1101(b) | Request approval to produce within 500 feet of a lease line | 5 | 21 requests | 105
1101(c) | Request approval to produce gas cap of a sensitive reservoir | 12 | 125 requests | 1,500
1102 | Submit forms MMS-0 126, MMS-127, and MMS-128—burden covered under 1010-0039, 1010-0018, and 1010-0017. |  |  | 0
1102(a)(5) | Submit alternative plan for overproduction status—MMS is not currently collecting this information. |  |  | 0
1102(b)(6) | Request extension of time to submit results of semiannual well test. | ½ | 37 requests | 19
1103(a) | Request approval of test periods of less than 4 hours and pretest stabilization periods of less than 6 hours | ½ | 37 requests | 19
1103(c) | Provide advance notice of time and date of well tests | ½ | 10 notices | 5
1104(c) | Submit results of all static bottomhole pressure surveys obtained by lessee. Information is submitted on form MMS-140 in the Gulf of Mexico Region. | 1 | 1,235 surveys | 1,235
1105(a), (b) | Request special approval to flare or vent oil-well gas | ½ | 506 requests | 253
1105(c) | Request approval to burn produced liquid hydrocarbons | ½ | 60 requests | 30
1105(f) | Submit monthly reports of flared or vented gas containing H2S | 2 | 3 operators × 12 mos. = 36 | 72
1105(f) | H2S Contingency, Exploration, or Development and Production Plans—burden covered under 1010-0053 and 1010-0049. |  |  | 0
1106 | Submit application to commingle hydrocarbons produced from multiple reservoirs and inform other lessees having an interest | 6 | 118 applications | 708
1107(b) | Submit proposed plan for enhanced recovery operations | 12 | 24 plans | 288
1107(c) | Submit periodic reports of volumes of oil, gas, or other substances injected, produced, or reproduced. | 2 | 67 reports | 134
1100-1107 | General departure or alternative compliance requests not specifically covered elsewhere in subpart K, including bottomhole pressure survey waivers and reservoir reclassification requests. | 1 6 | 120 survey waivers 20 requests | 120 120
Reporting Subtotal | 2,416 | 4,608
1105(d), (e) | Maintain records for 2 years detailing gas flaring or venting. | 13 | 846 platforms | 10,998
1105(d), (e) | Maintain records for 2 years detailing liquid hydrocarbon burning. | ½ | 60 occurences | 30
Recordkeeping Subtotal | 130 Recordkeepers | 11,028
Total Burden |  |  | 2,546 | 15,636

Estimated Reporting and Recordkeeping “Non-Hour Cost” Burden: We have identified no cost burdens for this collection.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “ * * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on December 6, 2002, we published a Federal Register notice (67 FR 72693) announcing that we would submit this ICR to OMB for approval. The notice provided the required 60-day comment period. In addition, § 250.199 provides the OMB control number for the information collection requirements imposed by the 30 CFR 250 regulations and forms. The regulation also informs the public that they may comment at any time on the collections of information and provides the address to which they should send comments. We have received no comments in response to these efforts.

If you wish to comment in response to this notice, you may send your comments to the offices listed under the ADDRESSES section of this notice. OMB has up to 60 days to approve or disapprove the information collection but may respond after 30 days. Therefore, to ensure maximum consideration, OMB should receive public comments by June 20, 2003.

Public Comment Policy: Our practice is to make comments, including names and home addresses of respondents, available for public review during regular business hours. Individual respondents may request that we withhold their home address from the record, which we will honor to the extent allowable by the law. There may be circumstances in which we would withhold from the record a respondent's identity, as allowable by the law. If you wish us to withhold your name and/or address, you must state this prominently at the beginning of your comment. However, we will not consider anonymous comments. We will make all submissions from organizations or businesses, and from individuals identifying themselves as representatives or officials of organizations or businesses, available for public inspection in their entirety.

MMS Information Collection Clearance Officer: Jo Ann Lauterbach, (202) 208-7744.

Dated: March 11, 2003.
E. P. Danenberger,
Chief, Engineering and Operations Division.

[FR Doc. 03-12693 Filed 5-20-03; 8:45 am]

BILLING CODE 4310-MR-P